DEPARTMENT OF HOMELAND SECURITY

Coast Guard

46 CFR Part 153

[Docket No. USCG-2013-0915]

RIN 1625-ZA31

Carriage of Conditionally Permitted Shale Gas Extraction Waste Water in Bulk

AGENCY: Coast Guard, DHS.

ACTION: Notice of availability and request for comments.

SUMMARY: The Coast Guard announces the availability of a proposed policy letter concerning the carriage of shale gas extraction waste water in bulk via barge, and invites public comment. The policy letter specifies the conditions under which a barge owner may request and be granted a Certificate of Inspection endorsement or letter allowing the barge to transport shale gas extraction waste water in bulk. The policy letter also defines the information the Coast Guard may require the barge owner to provide and specifies the additional requirements the Coast Guard is considering imposing on such barges. Upon reviewing comments received on this proposed policy letter, Coast Guard will issue the final policy letter and specify its effective date.

DATES: Comments and related material must either be submitted to our online docket via http://www.regulations.gov on or before November 29, 2013 or reach the Docket Management Facility by that date.

ADDRESSES: You may submit comments identified by docket number USCG-2013-0915 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email Dr. Cynthia A. Znati, Office of Design and Engineering Standards, Hazardous Materials Division, U.S. Coast Guard; telephone 202-372-1412, email HazmatStandards@uscg.mil. If you have questions on viewing or submitting material to the docket, call Barbara Hairston, Program Manager, Docket Operations, telephone 202-366-9826.

SUPPLEMENTARY INFORMATION:

Public Participation and Request for Comments

We encourage you to submit comments and related material on the proposed policy letter concerning the carriage of conditionally permitted shale gas extraction waste water in bulk. In particular, we specifically request public comment regarding the disclosure of proprietary information to the Coast Guard, and regarding the applicability of testing requirements for radioactive materials to all regions where shale gas extraction waste water may be transported by barge. All comments received will be posted, without change, to http://www.regulations.gov and will include any personal information you have provided.

Submitting comments: If you submit a comment, please include the docket number for this notice (USCG-2013-0915) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, click on the “submit a comment” box, which will then become highlighted in blue. In the “Document Type” drop down menu select “Notices” and insert “USCG-2013-0915” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and proposed new policy letter: To view the comments and the policy letter, go to http://www.regulations.gov, click on the “read comments” box, which will then become highlighted in blue. In the “Keyword” box insert “USCG-2013-0915” and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

This notice is issued under authority of 5 U.S.C. 552(a). The purpose of this notice is to announce the availability of the Coast Guard's proposed policy letter entitled “Carriage of Conditionally Permitted Shale Gas Extraction Waste Water in Bulk,” and to request public comments on the policy the letter describes. The policy letter specifies the conditions under which a barge owner may request and be granted a Certificate of Inspection endorsement or letter, under 46 CFR part 153, allowing the barge to transport shale gas extraction waste water (SGEWW) in bulk as Conditionally Permitted SGEWW. The policy letter also defines the information the Coast Guard may require the barge owner to provide and specifies the additional requirements the Coast Guard is considering imposing on such barges.

SGEWW is a by-product of drilling for natural gas using unconventional hydraulic fracturing technology, which involves the injection of water, sand, and chemical additives. The sand remains in the well but a substantial portion of the injected fluid re-surfaces after the drilling and must be handled as SGEWW. At present, this SGEWW is either stored at the drilling site or transported by rail or truck to remote storage or reprocessing centers. There is commercial interest in transporting SGEWW from northern Appalachia via inland waterways to storage or reprocessing centers and final disposal sites in Ohio, Texas, and Louisiana.

Pursuant to 46 CFR 153.900(a) and (c), under certain circumstances a bulk liquid hazardous material may be transported by a tank vessel if it is a “listed cargo” (listed in any of several specified tables in Coast Guard regulations). SGEWW, however, cannot be treated as a “listed cargo” because the specific chemical composition of SGEWW varies from one consignment load to another and may contain one or more hazardous materials as defined in 46 CFR 153.2, including radioactive isotopes such as radium-226 and radium-228. Variables affecting the chemical composition of SGEWW include the chemicals present in the initial drilling fluid, the specific site being drilled, and the age of the well. In addition, each load can be a mixture of SGEWW from different wells.

Upon reviewing comments received on this proposed policy letter, Coast Guard will issue the final policy letter and specify its effective date.

Dated: October 23, 2013.
J.G. Lantz,
Director of Commercial Regulations and Standards, United States Coast Guard.

[FR Doc. 2013-25628 Filed 10-29-13; 8:45 am]

BILLING CODE 9110-04-P